DEPARTMENT OF HOMELAND SECURITY

Federal Emergency Management Agency

[Docket ID FEMA-2017-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 25, 2017.
Roy E. Wright,
Deputy Associate Administrator for Insurance and Mitigation, Department of Homeland Security, Federal Emergency Management Agency.

State and county | Location and case No. | Chief executive officer of community | Community map repository | Effective date of modification | Community No.
Alabama:
Jefferson, (FEMA Docket No.: B-1668) | City of Birmingham, (16-04-6488P) | The Honorable William A. Bell, Sr., Mayor, City of Birmingham, 710 20th Street North, 3rd Floor, Birmingham, AL 35203 | City Hall, 710 20th Street North, 3rd Floor, Birmingham, AL 35203 | Feb. 21, 2017 | 010116
Jefferson, (FEMA Docket No.: B-1668) | Unincorporated areas of Jefferson County, (16-04-6488P) | The Honorable James A. Stephens, Chairman, Jefferson County Commission, 716 Richard Arrington Jr. Boulevard North, Birmingham, AL 35203 | Jefferson County Land Development Department, 716 Richard Arrington Jr. Boulevard North, Birmingham, AL 35203 | Feb. 21, 2017 | 010217
Colorado:
Adams, (FEMA Docket No.: B-1665) | City of Westminster, (16-08-0417P) | The Honorable Herb Atchison, Mayor, City of Westminster, 4800 West 92nd Avenue, Westminster, CO 80031 | Engineering Division, 4800 West 92nd Avenue, Westminster, CO 80031 | Feb. 10, 2017 | 080008
El Paso, (FEMA Docket No.: B-1665) | City of Colorado Springs, (16-08-0694P) | The Honorable John Suthers, Mayor, City of Colorado Springs, 30 South Nevada Avenue, Colorado Springs, CO, 80903 | Pikes Peak Regional Building, 2880 International Circle, Colorado Springs, CO, 80903 | Feb. 22, 2017 | 080060
Mesa, (FEMA Docket No.: B-1668) | City of Grand Junction, (16-08-0727P) | Mr. Greg Caton, Manager, City of Grand Junction, 250 North 5th Street, Grand Junction, CO 81501 | City Hall, 250 North 5th Street, Grand Junction, CO 81501 | Mar. 6, 2017 | 080117
Mesa, (FEMA Docket No.: B-1668) | Unincorporated areas of Mesa County, (16-08-0612P) | The Honorable John Justman, Chairman, Mesa County, Board of Commissioners, 544 Rood Avenue, 3rd Floor, Grand Junction, CO 81501 | Mesa County Central Services Department, 200 South Spruce Street, Grand Junction, CO 81501 | Mar. 9, 2017 | 080115
Mesa, (FEMA Docket No.: B-1668) | Unincorporated areas of Mesa County, (16-08-0727P) | The Honorable John Justman, Chairman, Mesa County, Board of Commissioners, 544 Rood Avenue, 3rd Floor, Grand Junction, CO 81501 | Mesa County Central Services Department, 200 South Spruce Street, Grand Junction, CO 81501 | Mar. 6, 2017 | 080115
Florida:
Collier, (FEMA Docket No.: B-1668) | City of Naples, (16-04-7943P) | The Honorable Bill Barnett, Mayor, City of Naples, 735 8th Street South, Naples, FL 34102 | Building Department, 295 Riverside Circle, Naples, FL 34102 | Mar. 8, 2017 | 125130
Collier, (FEMA Docket No.: B-1668) | Unincorporated areas of Collier County, (16-04-8239P) | The Honorable Donna Fiala, Chair, Collier County Board of Commissioners, 3299 Tamiami Trail East, Suite 303, Naples, FL 34112 | Collier County Administration Department, 3301 East Tamiami Trail, Building F, 1st Floor, Naples, FL 34112 | Mar. 9, 2017 | 120067
Lee, (FEMA Docket No.: B-1668) | Unincorporated areas of Lee County, (16-04-4523P) | The Honorable Frank Mann, Chairman, Lee County Board of Commissioners, 2120 Main Street, Fort Myers, FL 33901 | Lee County Community Development Department, 1500 Monroe Street, Fort Myers, FL 33901 | Mar. 3, 2017 | 125124
Manatee, (FEMA Docket No.: B-1665) | City of Bradenton Beach, (16-04-5422P) | The Honorable William Shearon, Mayor, City of Bradenton Beach, 107 Gulf Drive North, Bradenton Beach, FL 34217 | Public Works, Planning and Development Department, 107 Gulf Drive North, Bradenton Beach, FL 34217 | Mar. 1, 2017 | 125091
Miami-Dade, (FEMA Docket No.: B-1668) | City of Miami, (16-04-6380P) | The Honorable Tomás P. Regalado, Mayor, City of Miami, 3500 Pan American Drive, Miami, FL 33133 | Building Department, 444 Southwest 2nd Avenue, 4th Floor, Miami, FL 33130 | Mar. 8, 2017 | 120650
Miami-Dade, (FEMA Docket No.: B-1668) | City of Miami, (16-04-7155P) | The Honorable Tomás P. Regalado, Mayor, City of Miami, 3500 Pan American Drive, Miami, FL 33133 | Building Department, 444 Southwest 2nd Avenue, 4th Floor, Miami, FL 33130 | Mar. 3, 2017 | 120650
Monroe, (FEMA Docket No.: B-1668) | Unincorporated areas of Monroe County, (16-04-7782P) | The Honorable Heather Carruthers, Mayor, Monroe County Board of Commissioners, 500 Whitehead Street, Suite 102, Key West, FL 33040 | Monroe County Building Department, 2798 Overseas Highway, Marathon, FL 33050 | Mar. 8, 2017 | 125129
Orange, (FEMA Docket No.: B-1668) | City of Orlando, (16-04-5226P) | The Honorable Buddy Dyer, Mayor, City of Orlando, 400 South Orange Avenue, Orlando, FL 32802 | Public Works Department, 400 South Orange Avenue, Orlando, FL 32802 | Mar. 10, 2017 | 120186
Maryland: Garrett, (FEMA Docket No.: B-1668) | Unincorporated areas of Garrett County, (16-03-2576P) | Mr. Kevin G. Null, Garrett County Administrator, 203 South 4th Street, Room 207, Oakland, MD 21550 | Garrett County Department of Permits and Inspection Services, 203 South 4th Street, Room 208, Oakland, MD 21550 | Mar. 10, 2017 | 240034
Massachusetts: Norfolk, (FEMA Docket No.: B-1668) | City of Quincy, (16-01-0647P) | The Honorable Thomas P. Koch, Mayor, City of Quincy, 1305 Hancock Street, Quincy, MA 02169 | Department of Public Works, 55 Sea Street, Quincy, MA 02169 | Mar. 1, 2017 | 255219
New Mexico:
Bernalillo, (FEMA Docket No.: B-1668) | City of Albuquerque, (16-06-1689P) | The Honorable Richard J. Berry, Mayor, City of Albuquerque, P.O. Box 1293, Albuquerque, NM 87103 | Planning Development and Building Services Division, 600 2nd Street Northwest, Albuquerque, NM 87102 | Feb. 27, 2017 | 350002
Bernalillo, (FEMA Docket No.: B-1668) | Unincorporated areas of Bernalillo County, (16-06-1689P) | The Honorable Art De La Cruz, Chairman, Bernalillo County Board of Commissioners, 1 Civic Plaza Northwest, Albuquerque, NM 87102 | Bernalillo County Public Works Division, 2400 Broadway Southeast, Albuquerque, NM 87102 | Feb. 27, 2017 | 350001
North Carolina:
Craven, (FEMA Docket No.: B-1668) | City of Havelock, (16-04-6818P) | The Honorable William Lewis, Mayor, City of Havelock, P.O. Box 368, Havelock, NC 28532 | Planning and Inspections Department, 1 Governmental Avenue, Havelock, NC 28532 | Feb. 23, 2017 | 370265
Craven, (FEMA Docket No.: B-1668) | Unincorporated areas of Craven County, (16-04-6818P) | The Honorable George S. Liner, Chairman, Craven County Board of Commissioners, 406 Craven Street, New Bern, NC 28560 | Craven County Planning and Community Development Department, 2828 Neuse Boulevard, New Bern, NC 28562 | Feb. 23, 2017 | 370072
Mecklenburg, (FEMA Docket No.: B-1665) | Town of Pineville, (16-04-3132P) | The Honorable John Edwards, Mayor, Town of Pineville, P.O. Box 249, Pineville, NC 28134 | Town Hall, 200 Dover Street, Pineville, NC 28134 | Feb. 23, 2017 | 370160
Yadkin, (FEMA Docket No.: B-1700) | Town of Yadkinville, (16-04-7376P) | The Honorable Eddie Norman, Mayor, Town of Yadkinville, P.O. Box 816, Yadkinville, NC 27055 | Town Hall, 213 Van Buren Street, Yadkinville, NC 27055 | Feb. 9, 2017 | 370640
Yadkin, (FEMA Docket No.: B-1700) | Unincorporated areas of Yadkin County, (16-04-7376P) | The Honorable Kevin Austin, Chairman, Yadkin County, Board of Commissioners, P.O. Box 220, Yadkinville, NC 27055 | Yadkin County Planning and Zoning Department, 213 East Elm Street, Yadkinville, NC 27055 | Feb. 9, 2017 | 370400
Oklahoma:, Oklahoma, (FEMA Docket No.: B-1665) | City of Oklahoma City, (16-06-2147P) | The Honorable Mick Cornett, Mayor, City of Oklahoma City, 200 North Walker, Avenue, Oklahoma City, OK 73102 | Public Works Department, 420 West Main Street, Oklahoma City, OK 73102 | Feb. 22, 2017 | 405378
South Dakota:
Pennington, (FEMA Docket No.: B-1668) | City of Rapid City, (16-08-0803P) | The Honorable Steve Allender, Mayor, City of Rapid City, 300 6th Street, Rapid City, SD 57701 | Public Works and Engineering Services Department, 300 6th Street, Rapid City, SD 57701 | Feb. 23, 2017 | 465420
Pennington, (FEMA Docket No.: B-1668) | City of Rapid City, (16-08-0818P) | The Honorable Steve Allender, Mayor, City of Rapid City, 300 6th Street, Rapid City, SD 57701 | Public Works and Engineering Services Department, 300 6th Street, Rapid City, SD 57701 | Feb. 27, 2017 | 465420
Pennington, (FEMA Docket No.: B-1700) | City of Rapid City, (16-08-0839P) | The Honorable Steve Allender, Mayor, City of Rapid City, 300 6th Street, Rapid City, SD 57701 | Public Works- and Engineering Services Department, 300 6th Street, Rapid City, SD 57701 | Mar. 10, 2017 | 465420
Pennington, (FEMA Docket No.: B-1700) | Unincorporated areas of Pennington County, (16-08-0839P) | The Honorable Lyndell Petersen, Chairman, Pennington County Board of Commissioners, 130 Kansas City Street, Suite 100, Rapid City, SD 57701 | Pennington County Planning Department, 130 Kansas City Street, Suite 200, Rapid City, SD 57701 | Mar. 10, 2017 | 460064
Tennessee: Shelby, (FEMA Docket No.: B-1668) | Town of Collierville, (16-04-7778P) | The Honorable Stan Joyner, Jr., Mayor, Town of Collierville, 500 Poplar View Parkway, Collierville, TN 38017 | Development Department, 500 Poplar View Parkway, Collierville, TN 38017 | Mar. 3, 2017 | 470263
Texas:
Collin, (FEMA Docket No.: B-1668) | City of Wylie, (16-06-1916P) | The Honorable Eric Hogue, Mayor, City of Wylie, 300 Country Club Road, Building 100, Wylie, TX 75098 | City Hall, 300 Country Club Road, Building 100, Wylie, TX 75098 | Feb. 23, 2017 | 480759
Dallas, (FEMA Docket No.: B-1665) | City of Irving, (16-06-2472P) | The Honorable Beth Van Duyne, Mayor, City of Irving, 825 West Irving Boulevard, Irving, TX 75060 | Capital Improvement Program Department, Engineering Section, 825 West Irving Boulevard, Irving, TX 75060 | Feb. 21, 2017 | 480180
Hays, (FEMA Docket No.: B-1668) | Unincorporated areas of Hays County, (16-06-2633P) | The Honorable Bert Cobb, M.D., Hays County Judge, 111 East San Antonio Street, Suite 300, San Marcos, TX 78666 | Hays County Development Services Department, 2171 Yarrington Road, San Marcos, TX 78666 | Mar. 9, 2017 | 480321
Hidalgo, (FEMA Docket No.: B-1668) | City of McAllen, (16-06-2547P) | The Honorable James E. Darling, Mayor, City of McAllen, P.O. Box 220, McAllen, TX 78505 | Development Engineering Department, 311 North 15th Street, McAllen, TX 78501 | Feb. 21, 2017 | 480343
Montgomery, (FEMA Docket No.: B-1665) | City of Conroe, (16-06-1340P) | The Honorable Toby Powell, Mayor, City of Conroe, P.O. Box 3066, Conroe, TX 77305 | Department of Public Works, 300 West Davis Street, Conroe, TX 77301 | Feb 17, 2017 | 480484
Travis, (FEMA Docket No.: B-1665) | City of Pflugerville, (16-06-1416P) | The Honorable Jeff Coleman, Mayor, City of Pflugerville, P.O. Box 589, Pflugerville, TX 78691 | Development Services Department, 201-B East Pecan Street, Pflugerville, TX 78660 | Feb. 21, 2017 | 481028
Travis, (FEMA Docket No.: B-1665) | Unincorporated areas of Travis County, (16-06-1416P) | The Honorable Sarah Eckhardt, Travis County Judge, P.O. Box 1748, Austin, TX 78767 | Travis County Transportation and Natural Resources Department, 700 Lavaca Street, Austin, TX 78701 | Feb. 21, 2017 | 481026
Williamson, (FEMA Docket No.: B-1668) | Unincorporated areas of Williamson County, (16-06-0501P) | The Honorable Dan A. Gattis, Williamson County Judge, 710 South Main Street, Suite 101, Georgetown, TX 78626 | Williamson County Engineering Department, 3151 Southeast Inner Loop, Suite B, Georgetown, TX 78626 | Mar. 2, 2017 | 481079
Wilson, (FEMA Docket No.: B-1656) | City of La Vernia, (16-06-0558P) | The Honorable Robert Gregory, Mayor, City of La Vernia, P.O. Box 225, La Vernia, TX 78121 | City Hall, 102 East Chihuahua Street, La Vernia, TX 78121 | Dec. 8, 2016 | 481050
Wilson, (FEMA Docket No.: B-1656) | Unincorporated areas of Wilson County, (16-06-0558P) | The Honorable Richard L. Jackson, Wilson County Judge, 1420 3rd Street, Suite 101, Floresville, TX 78114 | Wilson County Emergency Management Department, 800 10th Street, Building B, Floresville, TX 78114 | Dec. 8. 2016 | 480230
Utah: Morgan, (FEMA Docket No.: B-1668) | City of Morgan City, (16-08-1130P) | The Honorable Ray Little, Mayor, City of Morgan City, P.O. Box 1085, Morgan City, UT 84050 | Building Department, 90 West Young Street, Morgan City, UT 84050 | Feb. 27, 2017 | 490093
Wyoming:
Sublette, (FEMA Docket No.: B-1668) | Town of Pinedale, (16-08-0579P) | The Honorable Robert M. Jones, Mayor, Town of Pinedale, 61 Pinedale South Road, Pinedale, WY 82941 | Town Hall, 61 Pinedale South Road, Pinedale, WY 82941 | Feb. 21, 2017 | 560049
Sublette, (FEMA Docket No.: B-1668) | Unincorporated areas of Sublette County, (16-08-0579P) | The Honorable Andy Nelson, Chairman, Sublette County Board of Commissioners, 21 South Tyler Avenue, Pinedale, WY 82941 | Sublette County Courthouse, 21 South Tyler Avenue, Pinedale, WY 82941 | Feb. 21, 2017 | 560048

[FR Doc. 2017-10188 Filed 5-18-17; 8:45 am]

BILLING CODE 9110-12-P